DEPARTMENT OF THE INTERIOR

National Park Service

[NPS-NERO-PAGR-14486; PPNEPAGR00/PMP00UP05.YP0000, PX.P0156924I]

Notice of 2014 Meetings for the Paterson Great Falls National Historical Park Advisory Commission

AGENCY: National Park Service, Interior.

ACTION: Notice of meetings.

SUMMARY: As required by the Federal Advisory Committee Act (5 U.S.C. Appendix 1-16) the National Park Service is hereby giving notice for the 2014 schedule of meetings for the Paterson Great Falls National Historical Park Advisory Commission. The Commission was authorized by Congress and signed by the President on March 30, 2009, (Pub. L. 111-11, Title VII, Subtitle A, Section 7001, Subsection e), “to advise the Secretary in the development and implementation of the management plan.” Agendas for these meetings will be provided on the Paterson Great Falls National Historical Park Web site: http://www.nps.gov/pagr/parkmgmt/federal-advisory-commission.htm.

DATES: The Commission will meet on the following dates in 2014:

Thursday, January 23, 2014, 2:00-5:00 p.m. (snow date: January 30, 2014, 2:00-5:00 p.m.);

Thursday, April 10, 2014, 2:00-5:00 p.m.;

Thursday, July 10, 2014, 2:00-5:00 p.m.; and

Thursday, October 9, 2014, 2:00-5:00 p.m.

Location: All meetings will be held at the Paterson Museum, 2 Market Street (intersection of Market and Spruce Streets), Paterson, NJ.

FOR FURTHER INFORMATION CONTACT: Darren Boch, Superintendent, Paterson Great Falls National Historical Park, 72 McBride Avenue, Paterson, NJ 07501, (973) 523-2630.

SUPPLEMENTARY INFORMATION: In accordance with section 10(a)(2) of the Federal Advisory Committee Act (5 U.S.C. Appendix 1-16), this notice announces the 2014 meeting schedule of the Paterson Great Falls National Historical Park Advisory Commission. Topics to be discussed include updates on the status of the Paterson Great Falls National Historical Park General Management Plan.

The meetings will be open to the public and time will be reserved during each meeting for public comment. Oral comments will be summarized for the record. If individuals wish to have their comments recorded verbatim, they must submit them in writing. Written comments and requests for agenda items may be sent to: Federal Advisory Commission, Paterson Great Falls National Historical Park, 72 McBride Avenue, Paterson, NJ 07501. Written comments may also be sent by email to: pagr_gmp@nps.gov.

Before including your address, telephone number, email address, or other personal indentifying information in your comment, you should be aware that your entire comment-including your personal identifying information-may be made publicly available at any time. While you can ask us in your comment to withhold your personal identifying information from public review, we cannot guarantee that we will be able to do so. All comments will be made part of the public record and will be electronically distributed to all Commission members.

Dated: December 16, 2013.
Alma Ripps,
Chief, Office of Policy

[FR Doc. 2013-30786 Filed 12-24-13; 8:45 am]

BILLING CODE 4310-WV-P